DEPARTMENT OF COMMERCE

Census Bureau

[Docket Number: 250325-0048; RTID 0607-XC081]

Geographically Updated Population Certification Program

AGENCY: Census Bureau, Department of Commerce.

ACTION: Notice.

SUMMARY: The Census Bureau will modify the Geographically Updated Population Certification Program (GUPCP) by removing the expedited processing option for certified decennial census population and housing counts associated with updated government boundaries. The GUPCP is a fee-based service that was reinstated on January 1, 2024. The service provides the requesting government a new certification of 2020 Census population and housing counts based on boundary updates that became legally effective after the 2020 Census. Government boundaries effective on or before January 1, 2020, were used for 2020 Census population and housing tabulation.

DATES: This modification shall become effective April 4, 2025.

FOR FURTHER INFORMATION CONTACT: Lindsay Spell, Population Division, U.S. Census Bureau, by email at pop.lgemp@census.gov or telephone at 301-763-2461.

SUPPLEMENTARY INFORMATION:

Background

Following the 1970 decennial census and after every subsequent decennial census, the Census Bureau provided the opportunity for tribal, state, and local governments to obtain certified population and housing counts for areas where the boundaries have changed from those used to tabulate the results of the immediately preceding decennial census. These changes occur due to newly incorporated governments, the merger of two or more existing governments, the addition or annexation of land by a government, or other circumstances. The certification process is available to governments established by law for the purpose of implementing specified general-purpose or special-purpose government functions. Most governments have legally established boundaries and names and have officials (usually elected) who have the power to carry out legally prescribed functions, provide services for residents, and raise revenues. These are commonly referred to as general-purpose governments and typically include federally recognized American Indian reservations and off-reservation trust land, counties and county equivalents, boroughs, cities, towns, villages, and townships. Special-purpose governments, such as school districts, typically are limited to one function.

This service is a permanent process, but one that is suspended in advance of future decennial censuses. Typically, the Census Bureau will suspend this service and direct its resources to the decennial census for approximately five years. This includes the two years preceding the decennial census, the decennial census year, and the two years following it. The Census Bureau issues notices in the Federal Register announcing when it suspends and, in turn, resumes the service.

The Census Bureau first began to make updated decennial census count determinations to reflect geographic boundary changes in 1972 in response to the requests of local governments to establish eligibility for participation in the General Revenue Sharing Program, authorized under Public Law 92-512. At that time, the Census Bureau established a fee-based service enabling governments with annexations to obtain updated decennial census population counts that reflected the population living in the annexed areas. The Census Bureau also received funding from the U.S. Department of the Treasury to make those determinations for larger annexations that met prescribed criteria, and for new incorporations. The General Revenue Sharing Program ended on September 30, 1986, but the certification program continued into 1988 with support from the Census Bureau. The program was suspended to accommodate the taking of the 1990 decennial census and resumed in 1992. The Census Bureau supported the program through fiscal year 1995 for cities with large annexations and through fiscal year 1996 for newly incorporated places. The program was continued as a fee-based service until June 1, 1998, at which time it was suspended for the 2000 decennial census (63 FR 27706, May 20, 1998).

In 2002, the program resumed and has since been referred to as the Geographically Updated Population Certification Program or GUPCP (67 FR 72095, December 4, 2002). GUPCP was suspended again in 2008 to accommodate the taking of the 2010 Census (72 FR 46602, August 21, 2007), as well as in 2019 to accommodate the taking of the 2020 Census (83 FR 53029, October 19, 2018).

Following each decennial census, published census data adhere to disclosure avoidance standards designed to protect confidentiality. Prior to 2020, governments were able to request an expedited GUPCP certificate to receive decennial census population and housing unit counts that incorporate a change in boundaries outside of the regular annual update schedule. Within the disclosure avoidance system, it was possible to generate these data as needed to satisfy expedited requests.

This decade, the modernized disclosure avoidance standards limit the application of geographic updates to the 2020 Census data to once each year. As a result, the Census Bureau can only produce updated population and housing unit counts on the annual update schedule for new incorporations or annexations. Accordingly, there is only one fee option associated with an annual processing option.

Although there is no legal requirement that the Census Bureau provide this service, there is a demand from governments for 2020 Census population and housing counts to be certified to reflect boundary updates or the formation of new governments dated after January 1, 2020, the legal effective date for boundaries used in tabulating the 2020 Census. Title 13, section 8 of the United States Code allows the Census Bureau to conduct this program by providing certain statistical materials upon payment of costs for the service. The Census Bureau is the sole provider of this service, which is based on processing 2020 Census enumeration records protected by the confidentiality restrictions at 13 U.S.C. 8 and 9.

A geographically updated population certification from the Census Bureau confirms that an official population and housing count is an accurate retabulating of the 2020 Census population and housing as configured for the updated government boundaries. A population certification may be needed for many reasons. For example, general-purpose governments may be required by state law to produce a Census Bureau population and housing certification for funds disbursement from their respective state, or federally sponsored programs may require or honor a Census Bureau population and housing certification for program eligibility. Special-purpose governments may also need official certification of census population and housing counts for other purposes.

Governments requesting certification must complete Form BC-1869(EF), Geographically Updated Population Certification Program (GUPCP) Request. Program details, and this form, are available online at: https://www.census.gov/programs-surveys/gupcp.html. Tribal, state, and local governments should submit requests for certifications on Form BC-1869(EF) by email to the Census Bureau at pop.lgemp@census.gov. Communication requesting the service without Form BC-1869(EF) will be accepted only if it contains the information necessary to complete the form.

Paperwork Reduction Act: Notwithstanding any other provision of law, no person is required to respond to, nor shall a person be subject to a penalty for failure to comply with, a collection of information subject to the requirements of the Paperwork Reduction Act (PRA) (44 U.S.C. 3501 et seq.), unless that collection of information displays a current Office of Management and Budget control number. This notice does not represent a collection of information and is not subject to the PRA's requirements. The form reference in the notice, Form BC-1869(EF), will collect only information necessary to process a certification request. As such, it is not subject to the PRA's requirements.

Ron Jarmin, Acting Director, Census Bureau, approved the publication of this notice in the Federal Register.

Dated: March 31, 2025.
Shannon Wink,
Program Analyst, Policy Coordination Office, U.S. Census Bureau.

[FR Doc. 2025-05804 Filed 4-3-25; 8:45 am]

BILLING CODE 3510-07-P